ENVIRONMENTAL PROTECTION AGENCY

40 CFR Part 52

[EPA-R07-OAR-2021-0334; FRL-10023-73-Region 7]

Air Plan Approval; Missouri; Restriction of Emissions From Lithographic and Letterpress Printing Operations

AGENCY: Environmental Protection Agency (EPA).

ACTION: Proposed rule.

SUMMARY: The Environmental Protection Agency (EPA) is proposing to approve revisions to the Missouri State Implementation Plan (SIP) received on November 10, 2020. The submission revises a Missouri regulation that restricts volatile organic compound emissions from lithographic and letterpress printing operations in the St. Louis Metropolitan Area. Specifically, the state has revised this rule in order to clarify rule applicability, update incorporation by reference information, update test method reference, clarify definitions, and remove the unnecessary use of restrictive words to improve clarity. Approval of these revisions will ensure consistency between state and federally-approved rules.

DATES: Comments must be received on or before June 21, 2021.

ADDRESSES: You may send comments, identified by Docket ID No. EPA-R07-OAR-2021-0334 to https://www.regulations.gov. Follow the online instructions for submitting comments.

Instructions: All submissions received must include the Docket ID No. for this rulemaking. Comments received will be posted without change to https://www.regulations.gov/, including any personal information provided. For detailed instructions on sending comments and additional information on the rulemaking process, see the “Written Comments” heading of the SUPPLEMENTARY INFORMATION section of this document.

FOR FURTHER INFORMATION CONTACT: Larry Gonzalez, Environmental Protection Agency, Region 7 Office, Air Permitting Standards Branch, 11201 Renner Boulevard, Lenexa, Kansas 66219; telephone number (913) 551-7041; email address gonzalez.larry@epa.gov.

SUPPLEMENTARY INFORMATION: Throughout this document “we,” “us,” and “our” refer to the EPA.

Table of Contents

I. Written Comments

II. What is being addressed in this document?

III. Background

IV. What is the EPA's analysis of Missouri's SIP revision request?

V. Have the requirements for approval of a SIP revision been met?

VI. What action is the EPA taking?

VII. Incorporation by Reference

VIII. Statutory and Executive Order Reviews

I. Written Comments

Submit your comments, identified by Docket ID No. EPA-R07-OAR-2021-0334, at https://www.regulations.gov. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

II. What is being addressed in this document?

The EPA is proposing to approve revisions to the Missouri SIP received on November 10, 2020. The revisions are to Title 10, Division 10 of the Code of State Regulations, 10 CSR 10-5.442 “Control of Emissions From Lithographic and Letterpress Printing Operations”, which establishes emission limits for volatile organic compounds (VOCs) from lithographic and letterpress printing operations in St. Louis City and Jefferson, Franklin St. Louis, and St. Charles Counties (hereinafter referred to in this document as the “St. Louis Area”). 10 CSR 10-5.442 is SIP approved in the Code of Federal Regulations at 40 CFR 52.1320(c).

These revisions, as discussed in section IV of this document, are largely administrative in nature and do not have a negative impact on air quality. The EPA's full analysis of the revisions is described in the technical support document (TSD) included in the docket for this action.

Missouri received five comments (four from the EPA) during the comment period. Missouri responded to all five comments, as noted in the State submission included in the docket for this action.

The EPA is proposing to approve the revisions to this rule because it meets the requirements of the Clean Air Act and will not have a negative impact on air quality.

III. Background

The EPA approved 10 CSR 10-5.442 “Control of Emissions From Lithographic and Letterpress Printing Operations”, into the Missouri SIP as a reasonably available control technology (RACT) rule for the St. Louis area on January 23, 2012 (January 23, 2012, 77 FR 3144). 10 CSR 10-5.442 is SIP approved in the Code of Federal Regulations at 40 CFR 52.1320(c). Amendments to this state rule that became effective August 30, 2011, addressed an updated Control Techniques Guideline issued by the EPA in September 2006 for Offset Lithographic Printing and Letterpress Printing. These amendments provided more stringent RACT control levels and represent RACT under the 8-hour ozone National Ambient Air Quality Standards (NAAQS) in effect at the time of approval into the SIP by the EPA in January 2012.

IV. What is the EPA's analysis of Missouri's SIP revision request?

In 2019, Missouri revised 10 CSR 10-5.442 to include a date in the applicability section. As a result of the EPA's comment on the state's proposed rule revisions, Missouri revised the applicability date of this rule to apply to sources existing at the time when the most recent amendments to the rule, as approved into the SIP, became effective. Specifically, Missouri revised subsection (1)(A) to specify the applicability date of the rule for installations existing on August 30, 2011, in accordance with section 172(c)(1) of the CAA.¹

¹ The EPA agrees with Missouri's interpretation of CAA section 172(c)(1) in regard to whether RACT is required for existing sources, but also notes that the State regulation establishing RACT may apply to new sources as well, dependent upon the State regulation's language.

Additionally, the revisions to the rule text submitted by Missouri on November 10, 2020, do not alter the control requirements for installations already subject to the rule. Furthermore, any new sources or major modifications of existing sources are subject to new source review (NSR) permitting. Under NSR, a new major source or major modification of an existing source with a PTE of 250 tons per year (tpy) ² or more of any National Ambient Air Quality Standard (NAAQS) pollutant is required to obtain a Prevention of Significant Deterioration (PSD) permit when the area is in attainment or unclassifiable, which requires an analysis of Best Available Control Technology (BACT) in addition to an air quality analysis and an additional impacts analysis. Sources with a PTE greater than 100 tpy, but less than 250 tpy,³ are required to obtain a minor permit in accordance with Missouri's NSR permitting program, which is approved into the SIP.⁴ Further, a new major source or major modification of an existing source with a PTE of 100 tpy or more of any NAAQS pollutant is required to obtain a nonattainment (NA) NSR permit when the area is in nonattainment, which requires an analysis of Lowest Achievable Emission Rate (LAER) in addition to an air quality analysis, an additional impacts analysis and emission offsets. Other revisions to the rule are administrative in nature. See the TSD included in the docket for this action for the EPA's full analysis of the rule revisions submitted by Missouri on November 10, 2020.

² The PSD major source threshold for certain sources is 100 tpy rather than 250 tpy (see 40 CFR 52.21(b)(1)(i)(a) and 10 CSR 10-6.060(8)(A)).

³ Except for those sources with a PSD major source threshold of 100 tpy.

⁴ EPA's latest approval of Missouri's NSR permitting program rule was published in the Federal Register on October 11, 2016 (81 FR 70025).

V. Have the requirements for approval of a SIP revision been met?

The State submission has met the public notice requirements for SIP submissions in accordance with 40 CFR 51.102. The submission also satisfied the completeness criteria of 40 CFR part 51, appendix V. The state provided public notice of the revisions from May 01, 2019, to August 01, 2019, and held a public hearing on July 25, 2019. The state received and addressed five comments (four being from the EPA). As explained in more detail in the TSD which is part of this docket, the SIP revision submission meets the substantive requirements of the CAA, including section 110 and implementing regulations.

VI. What action is the EPA taking?

The EPA is proposing to amend the Missouri SIP by approving the State's request to revise 10 CSR 10-5.442, “Control of Emissions From Lithographic and Letterpress Printing Operations.” Approval of these revisions will ensure consistency between state and federally-approved rules. The EPA has determined that these changes meet the requirements of the Clean Air Act and will not have a negative impact to air quality.

The EPA is processing this as a proposed action because we are soliciting comments on the action. Final rulemaking will occur after consideration of any comments.

VII. Incorporation by Reference

In this rule, the EPA is proposing to include in a final EPA regulatory text that includes incorporation by reference. In accordance with the requirements of 1 CFR 51.5, the EPA is proposing to incorporate by reference the Missouri State Implementation Plan described in the proposed amendments to 40 CFR part 52 set forth below. The EPA has made, and will continue to make, these materials generally available through www.regulations.gov and at the EPA Region 7 Office (please contact the person identified in the FOR FURTHER INFORMATION CONTACT section of this preamble for more information).

VIII. Statutory and Executive Order Reviews

Under the Clean Air Act (CAA), the Administrator is required to approve a SIP submission that complies with the provisions of the Act and applicable Federal regulations. 42 U.S.C. 7410(k); 40 CFR 52.02(a). Thus, in reviewing SIP submissions, the EPA's role is to approve state choices, if they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of the National Technology Transfer and Advancement Act (NTTA) because this rulemaking does not involve technical standards; and

• Does not provide the EPA with the discretionary authority to address, as appropriate, disproportionate human health or environmental effects, using practicable and legally permissible methods, under Executive Order 12898 (59 FR 7629, February 16, 1994).

The SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Volatile organic compounds.

Dated: May 17, 2021.
Edward H. Chu,
Acting Regional Administrator, Region 7.

For the reasons stated in the preamble, the EPA proposes to amend 40 CFR part 52 as set forth below:

PART 52—APPROVAL AND PROMULGATION OF IMPLEMENTATION PLANS

1. The authority citation for part 52 continues to read as follows:

Authority: 42 U.S.C. 7401 et seq.

Subpart AA—Missouri

2. In § 52.1320, the table in paragraph (c) is amended by revising entry “10-5.442” to read as follows:

§ 52.1320 Identification of plan.

* * * * *

(c) * * *

EPA-Approved Missouri Regulations
Missouri citation | Title | State effective date | EPA approval date | Explanation
Missouri Department of Natural Resources
* * * * * * *
Chapter 5—Air Quality Standards and Air Pollution Control Regulations for the St. Louis Metropolitan Area
* * * * * * *
10-5.442 | Control of Emissions from Lithographic and Letterpress Printing Operations | 01/30/2020 | [Date of publication of the final rule in the Federal Register], [Federal Register citation of the final rule]
* * * * * * *

* * * * *

[FR Doc. 2021-10783 Filed 5-20-21; 8:45 am]

BILLING CODE 6560-50-P